DEPARTMENT OF TRANSPORTATION

Federal Aviation Administration

Notice of Intent To Rule on Change in Use of Aeronautical Property at Tallahassee International Airport

AGENCY: Federal Aviation Administration (FAA), DOT.

ACTION: Request for public comment.

SUMMARY: The Federal Aviation Administration is requesting public comment on a request by the City of Tallahassee to change a portion of airport property from aeronautical to non-aeronautical use at the Tallahassee International Airport, Tallahassee City, Florida. The request consists of approximately 119.6 acres.

Documents reflecting the Sponsor's request are available, by appointment only, for inspection at the Tallahassee International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes. The following is a brief overview of the request:

The City of Tallahassee is proposing to release from aeronautical use provisions approximately 119.6 acres at Tallahassee International Airport. The Proposed Project is part of the City of Tallahassee strategy to diversify the fuel supply, reduce the City's reliance on fossil fuels and reduce carbon emissions generated with electric power generation. The purpose of the Proposed Action is to generate clean energy, increase energy independence, and decrease the reliance on electricity generated by fossil fuel power plants. The Proposed Project is necessary to increase economic contribution from non-aviation uses on Airport property, support economic and sustainable development at the Airport, contribute to the Airport's economic viability and reduce the airport's carbon footprint.

DATES: Comments are due on or before April 13, 2017.

ADDRESSES: Documents are available for review at Tallahassee International Airport, and the FAA Airports District Office, 5950 Hazeltine National Drive, Suite 400, Orlando, FL 32822. Written comments on the Sponsor's request must be delivered or mailed to: Pedro Blanco, Community Planner, Orlando Airports District Office, 5950 Hazeltine National Drive, Suite 400, Orlando, FL 32822-5024.

FOR FURTHER INFORMATION CONTACT: Pedro Blanco, Community Planner, Orlando Airports District Office, 5950 Hazeltine National Drive, Suite 400, Orlando, FL 32822-5024.

Bart Vernace,
Manager, Orlando Airports District Office, Southern Region.

[FR Doc. 2017-05015 Filed 3-13-17; 8:45 am]

BILLING CODE 4910-13-P